DEPARTMENT OF HOMELAND SECURITY

Coast Guard

33 CFR Part 117

[USCG-2013-1088]

Drawbridge Operation Regulations; Reynolds Channel, Lawrence, NY

AGENCY: Coast Guard, DHS.

ACTION: Notice of temporary deviation from regulations.

SUMMARY: The Commander, First Coast Guard District, has issued a temporary deviation from the regulations governing the operation of the Atlantic Beach Bridge, mile 0.4, across Reynolds Channel, at Lawrence, New York. The deviation is necessary to facilitate structural repairs at the bridge. This temporary deviation authorizes the Atlantic Beach Bridge to operate under an alternate schedule to complete the structural repairs at the bridge.

DATES: This deviation is effective from March 24, 2014 through May 23, 2014.

ADDRESSES: The docket for this deviation, [USCG-2013-1088] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Atlantic Beach Bridge, across Reynolds Channel, mile 0.4, at Lawrence, New York, has a vertical clearance in the closed position of 25 feet at mean high water and 30 feet at mean low water. The existing drawbridge operation regulations are listed at 33 CFR 117.799(e).

The waterway is transited by commercial and seasonal recreational vessels of various sizes.

The owner of the bridge, Nassau County Bridge Authority, requested approval to operate the bridge under a temporary operating schedule to facilitate structural repairs at the bridge.

Under this temporary deviation the draw of the Atlantic Beach Bridge at mile 0.4, across Reynolds Channel shall operate, under the following operating schedule:

March 24, 2014 through April 20, 2014, Monday through Friday, the bridge shall operate a single span on signal between 6:30 a.m. and 4 p.m. From 4 p.m. through 6:30 a.m. the bridge shall open both spans on signal.

Weekends and holidays, from 4 p.m. on Friday through 6:30 a.m. on Monday the bridge shall operate two spans on signal.

April 21, 2014 through May 23, 2014, Monday through Friday, the bridge shall remain in the closed position; except that, the draw shall open on signal at 12 p.m. provided at least a one hour notice is given.

Weekends and holidays, from 4 p.m. on Friday through 6:30 a.m. on Monday the bridge shall operate two spans on signal.

The bridge shall open on signal at all times for commercial vessel traffic after at least a 48 hour advance notice is given by calling the number posted at the bridge.

The Coast Guard contacted all known commercial waterway users regarding this deviation and no objections were received.

In accordance with 33 CFR 117.35(e), the bridge must return to its regular operating schedule immediately at the end of the designated time period. This deviation from the operating regulations is authorized under 33 CFR 117.35.

Dated: February 10, 2014.
C.J. Bisignano,
Supervisory Bridge Management Specialist, First Coast Guard District.

[FR Doc. 2014-03875 Filed 2-21-14; 8:45 am]

BILLING CODE 9110-04-P